DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Marine Recreational Information Program.

OMB Control Number: 0648-0052.

Form Number(s): NA.

Type of Request: Regular submission (revision of a current information collection).

Number of Respondents: 464,868.

Average Hours Per Response: 10 minutes per survey.

Burden Hours: 63,687.

Needs and Uses: This request is for revision of a current information collection.

Marine recreational anglers are surveyed to collect catch and effort data, fish biology data, and angler socioeconomic characteristics. These data are required to carry out provisions of the Magnuson-Stevens Fishery Conservation and Management Act (16 U.S.C. 1801 et seq.), as amended, regarding conservation and management of fishery resources.

Marine recreational fishing catch and effort data are collected through a combination of mail surveys, telephone surveys and on-site intercept surveys with recreational anglers. Amendments to the Magnuson-Stevens Fishery Conservation and Management Act (MSA) require the development of an improved data collection program for recreational fisheries. To meet these requirements, NOAA Fisheries has designed and tested new approaches for sampling and surveying recreational anglers. Revision: A mail survey that samples from a residential address frame will be implemented to collect data on the number of marine recreational anglers and the number of recreational fishing trips. This survey will replace the Coastal Household Telephone Survey, which has traditionally been used to collect recreational fishing effort data. In addition, the sampling and estimation procedures for the access-point angler intercept survey have been revised to ensure better coverage and representation of recreational fishing activity.

This revision also eliminates several data collections that were implemented to test revised sampling procedures. The following data collections will be eliminated: Longitudinal Sampling for Coastal Household Telephone Survey, a Directory Frame Telephone Survey of Licensed Marine Recreational Anglers, the Angler Diary Recruitment Screening Questionnaire, Vessel Directory Maintenance and Biological Data Collection.

Affected Public: Individuals or households.

Frequency: Annually, on occasion, every three years.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW, Washington, DC 20230 (or via the Internet at JJessup@doc.gov).

Written comments and recommendations for the proposed information collection should be sent within 30 days of publication of this notice to OIRA_Submission@omb.eop.gov.

Dated: July 6, 2012.
Gwellnar Banks,
Management Analyst, Office of the Chief Information Officer.

[FR Doc. 2012-16999 Filed 7-11-12; 8:45 am]

BILLING CODE 3510-22-P